DEPARTMENT OF TRANSPORTATION

Coast Guard

33 CFR Part 165

[CGD08-02-015]

RIN 2115—AE84

Regulated Navigation Area; Lower Mississippi River Mile 529.8 to 537.0, Greenville, MS

AGENCY: Coast Guard, DOT.

ACTION: Temporary final rule; request for comments.

SUMMARY: The Coast Guard is establishing a regulated navigation area for all waters of the Lower Mississippi River beginning at mile 529.8 and ending at mile 537.0 in Greenville, Mississippi. This regulated navigation area is needed to protect construction personnel, equipment, and vessels from potential safety hazards associated with two construction projects in this area. Deviation from this rule is prohibited unless specifically authorized by the Captain of the Port Memphis, or his designated representative.

DATES: This rule is effective from 12 a.m. on July 11, 2002 to 12 a.m. on November 30, 2002.

ADDRESSES: Documents indicated in this preamble as being available in the docket, are part of docket [CGD8-02-015] and are available for inspection or copying at Marine Safety Office Memphis, 200 Jefferson Avenue, Memphis, TN 38103-2300 between 8 a.m. and 4 p.m., Monday through Friday, except Federal holidays.

FOR FURTHER INFORMATION CONTACT: Lieutenant (LT) Malcolm McLellan, Marine Safety Detachment Greenville, at (662) 332-0964.

SUPPLEMENTARY INFORMATION:

Regulatory Information

We did not publish a notice of proposed rulemaking (NPRM) for this regulation. Under 5 U.S.C. 553(b)(B), the Coast Guard finds that good cause exists for not publishing an NPRM, and under 5 U.S.C. 553(d)(3), good cause exists for making this rule effective less than 30 days after publication in the Federal Register. Information was made available to the Coast Guard in insufficient time to publish an NPRM or for Publication in the Federal Register. Publishing an NPRM and delaying its effective date would be contrary to public interest since immediate action is needed to protect construction personnel, equipment, and vessels from potential safety hazards associated with vessels transiting in this area.

Request for Comments

Although the Coast Guard has good cause in implementing this rule without engaging in the notice of proposed rule making process, we want to afford the maritime community the opportunity to participate in this rulemaking by submitting comments and related material regarding the size and boundaries of the regulated navigation area in order to minimize unnecessary burdens. If you do so, please include your name and address, identify the docket number for this rulemaking, CCGD8-02-015, indicate the specific section of this document to which each comment applies, and give the reason for each comment. Please submit all comments and related material in an unbound format, no larger than 8½ by 11 inches, suitable for copying. If you would like to know they reached us, please enclose a stamped self addressed postcard or envelope. We will consider all comments and material received during the comment period. We may change this temporary final rule in view of them.

Background and Purpose

This regulated navigation area (RNA) is being established as a result of two simultaneous construction projects. This regulated navigation area is needed to protect construction personnel, equipment, and vessels from potential safety hazards associated with two construction projects in this area.

The Army Corps of Engineers has requested a closure of the Lower Mississippi River from mile 530.0 to 537.0, to protect construction personnel, equipment, and vessels from potential safety hazards associated with vessels transiting in the vicinity of three, bendway weir construction sites on the right descending bank, in the vicinity of Vaucluse Trenchfill at mile 533.0. Construction of the bendway weirs is needed to maintain the integrity of the right descending bank.

Since 1972, the Greenville Bridge (Highway 82), mile 531.3 on the Lower Mississippi River, Greenville, Mississippi, has been struck more times than any other bridge on the Mississippi River. As a result, a new bridge, the US 82 Benjamin G. Humphreys, is currently being constructed further from the river bend at mile 530.8 on the Lower Mississippi River.

Since bridge construction began, broadcasts to mariners have been made requesting mariners to navigate in the channel to avoid hazarding bridge construction activities, and to maintain contact with the on-scene work vessel when passing the bridge construction site. These broadcasts have not been effective.

As a result of both projects, the Eighth Coast Guard District Commander is establishing a regulated navigation area for all waters of the Lower Mississippi River from mile 529.8 to 537.0, extending the entire width of the river. All vessels other than construction vessels are prohibited from transiting through this area from 6 a.m. to 6 p.m. unless authorized by the Captain of the Port Memphis or his designated representative. Construction vessels are defined as those vessels contracted by the Army Corp of Engineers to perform bendway weir construction work and other vessels engaged in construction of the new Greenville Highway Bridge. The Captain of the Port Memphis may authorize vessels to transit the regulated navigation area between 6 a.m. and 6 p.m. when construction activities pause or are delayed. Vessels authorized to transit during these times must proceed at minimum safe speed when passing the bridge construction site. Mariners will be notified via marine broadcasts on channel 16.

From 6 p.m. to 6 a.m. and at any other time vessels are allowed to transit through the area the following restrictions apply. Vessels may not meet or overtake other vessels within the regulated navigation area. When downbound vessels reach mile 539.0, they shall make a broadcast in the blind on VHF-FM channel 13 announcing their estimated time of arrival at mile 537.0. When upbound vessels reach mile 528.3 they shall make a broadcast in the blind on VHF-FM channel 13 announcing their estimated time of arrival at mile 529.8. If a downbound vessel is already in the RNA the upbound vessel shall adjust its speed to avoid a meeting situation within the RNA. All vessels shall contact the Army Corps of Engineers on-scene vessel and continually monitor VHF-FM channel 13 while in and approaching the Regulated Navigation Area.

No vessel may transit between the caissons and the bank at mile 530.8.

Deviation from this rule is prohibited unless specifically authorized by the Captain of the Port Memphis, or his designated representative. They may be contacted via VHF Channel 13 or 16, or via telephone at (901) 544-3941.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this rule to be so minimal that a full Regulatory Evaluation under paragraph 10(e) of the regulatory policies procedures of DOT is unnecessary. The impacts on routine navigation are expected to be minimal. This is not a 24-hour a day closure of the waterway. Vessel traffic is allowed to transit the regulated navigation area 12 hours a day and when the Captain of the Port Memphis authorizes vessels to navigate through the area between the hours of 6 a.m. to 6 p.m.

Representatives from both projects have met with local industry including the Lower Mississippi River Committee (LOMRC), to discuss ways to minimize the economic impact. LOMRC is an industry body, composed primarily of companies that transport commodities between Cairo, IL and New Orleans, LA. It represents carriers, facilities, and other maritime interests for the entire Lower Mississippi River. Local industry has agreed to implement voluntary measures to quickly clear waiting traffic and minimize delays during periods when the area is open for transit. The Army Corps of Engineers is providing a vessel to assist waiting vessels through the area as quickly as possible.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities for the reasons enumerated under the Regulatory Evaluation above.

If you are a small business entity and are significantly affected by this regulation please contact LT Malcolm McLellan, Marine Safety Office Memphis, at (662) 332-0964.

Assistance for Small Entities

Under section 213(a) of the Small Business Regulatory Enforcement Fairness Act of 1996 (Public Law 104-121), we offered to assist small entities in understanding the rule so they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, so we discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(g) of Commandant Instruction M16475.1D, this rule is categorically excluded from further environmental documentation because this rule is not expected to result in any significant adverse environmental impact as described in the National Environmental Policy Act of 1969 (NEPA). A “Categorical Exclusion Determination” is available for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. A new temporary § 165.T08-064 is added to read as follows:

§ 165.T08-064 Regulated Navigation Area; Lower Mississippi River Mile 529.8 to 537.0, Greenville, Mississippi.

(a) Definitions. Construction vessels are defined as those vessels contracted for by the Army Corps of Engineers to perform bendway weir construction work and other vessels engaged in construction of the new Greenville Highway Bridge.

(b) Location. The following area is a regulated navigation area: the waters of the Lower Mississippi River from mile 529.8 to mile 537.0, extending the entire width of the river.

(c) Effective date. This section is effective from 12 a.m. on July 11, 2002 to 12 a.m. on November 30, 2002.

(d) Regulations. (1) All vessels other than construction vessels are prohibited from transiting through this area from 6 a.m. to 6 p.m., daily, unless authorized by the Captain of the Port Memphis or his designated representative. Vessels authorized to transit during these times must proceed at minimum safe speed when passing the bridge construction site.

(2) From 6 p.m. to 6 a.m. and at any other time the Captain of the Port Memphis authorizes vessels to transit through the area the following restrictions apply.

(i) Vessels may not meet or overtake other vessels within the regulated navigation area.

(ii) When downbound vessels reach mile 539.0, they shall make a broadcast in the blind on VHF-FM channel 13 announcing their estimated time of arrival at mile 537.0. When upbound vessels reach mile 528.3 they shall make a broadcast in the blind on VHF-FM channel 13 announcing their estimated time of arrival at mile 529.8. If a downbound vessel is already in the regulated navigation area the upbound vessel shall adjust its speed to avoid a meeting situation within the regulated area.

(iii) All vessels shall contact the Army Corps of Engineers on-scene vessel prior to entering the regulated navigation area. They shall continually monitor VHF-FM channel 13 while in and approaching the Regulated Navigation Area.

(iv) No vessel may transit between the caissons and the bank at mile 530.8.

(3) Deviation from this rule is prohibited unless specifically authorized by the Captain of the Port Memphis, or his designated representative. They may be contacted via VHF-FM channel 13 or 16, or via telephone at (901) 544-3941.

Dated: July 11, 2002.
R.J. Casto,
Rear Admiral, U.S. Coast Guard, Commander, Eighth Coast Guard District.

[FR Doc. 02-18759 Filed 7-24-02; 8:45 am]

BILLING CODE 4910-15-P